DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of January, 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,254; American Fibers and Yarns Co., Rocky Mount, NC

TA-W-42,224; Radio Frequency Systems, Conditioning Div., Including Leased Workers at Strategic Staffing and Selectemp, Corvallis, OR

TA-W-42,286; Best Manufacturing Co., Fayette, AL: September 14, 2001.

TA-W-41,624; ADC Telecommunications, 1000 Valley Park Drive, Shakopee, MN

TA-W-42,278; Owen Development Corp. d/b/a Intra, Spartanburg, SC

In the following case, the investigation revealed that the criteria for eligibility have not been met for the reasons specified.

Increased imports did not contribute importantly to worker separations at the firm.

TA-W-42,324; United Plastic Group, Inc., Bensenville, IL

TA-W-42,004; IBM Corp., Microelectronics Div., Essex Junction, VT

In the following cases, the investigation revealed that the criteria for eligibility have not been met for the reasons specified.

The investigation revealed that criterion (a)(2)(A) (I.B.) (No Sales or Production declines) and (a) (2)(B) (II.B) (No shift in production to a foreign country) have not been met.

TA-W-50,025; Andrew Corp., Orland Park, IL

The investigation revealed that criterion (a)(2)(A) (I.C.) (Increased imports) and (a) (2)(B) (II.B) (No shift in production to a foreign country) have not been met.

TA-W-50,015; Houlton International Corp., Houlton, ME

TA-W-50,231; Snorkel International, a division of Omniquip Textron, Inc., Elwood, KS

TA-W-50,281; U.S. Manufacturing Corp., Bad Axe, MI

TA-W-50,449; PTC Alliance, Darlington, PA

TA-W-50,114l; Cadmus Mack (CPS), East Stroudsburg, PA

TA-W-50,312; Intertape Polymer Group, Nenasha Div., Menasha, WI

TA-W-50,185; Smurfit-Stone Container Corp., Corrugated Container Div., Milwaukee, WI

The investigation revealed that criterion (a)(2)(A) (I.C.) (Increased imports) was not met.

TA-W-50,270; Kreuter Manufacturing Co., Inc., New Paris, IN

TA-W-50,307; Xerox Corp., Xerox Supplies Business Group, Supplies Development Unit, Oklahoma City, OK

The workers firm does not produce an article as required for certification under Section 222 of the Trade Act of 1974.

TA-W-50,352; Spherion Atlanta Enterprises, LLC, Wilmington, NC

TA-W-50,423; L.A. Darling Co. (LAD), a Member of Marmon Retail Services, Pocahontas, AR

TA-W-50,210; Convergys, Technical Support Services, Jacksonville, FL

TA-W-50,471; MGM Transport Corp., Totowa, NJ

TA-W-50,481; Nautilus HPS, Inc., Independence, VA

TA-W-50,486; Electronic Data Systems Corp., I Solutions Center, Fairborn, OH

TA-W-50,246; Orcom Solutions, Inc., Bend, OR

TA-W-50,518; Bangor and Aroostook Railroad Co., Hermon, ME

TA-W-50,485; Oshkosh B'Gosh, Inc., Miami Trim Warehouse, Medley, FL

TA-W-50,565; ABM Janitorial Services, Greenville, SC

The investigation revealed that criteria (2) has not been met. The workers' firm (or subdivision) is not a supplier or downstream producer for trade-affected companies.

TA-W-50,472; Sharon Tube Co., Sharon, PA

The investigation revealed that criteria (2) has not been met. The workers' firm (or subdivision) is not an upstream supplier of components for trade-affected companies.

TA-W-50,386; Burelbach Industries, Inc., Rickreal, OR

TA-W-50,213; Fishercast, Inc., a Division of Fisher Gauge Ltd.,Watertown, NY

TA-W-50,217; Emerald Creek Garnet Ltd., a subsidiary of WGI Heavy Minerals, Inc., Fernwood, ID

TA-W-50,494; Manufacturers' Services Limited (MSL), Arden Hills, MN

Affirmative Determinations for Worker Adjustment Assistance

The following certifications have been issued; the date following the company name and location of each determination references the impact date for all workers of such determination.

TA-W-42,054; Treesource Industries, Inc., d/b/a Spanaway Lumber, Tacoma, WA: August 21, 2001.

TA-W-42,232; Nilfisk-Advance, Inc., Plymouth, MN: September 26, 2001.

TA-W-42,149; Modine Manufacturing Co., Knoxville, TN: August 16, 2001.

The following certifications have been issued. The requirements of (a)(2)(A) (increased imports) of Section 222 have been met.

TA-W-50,086; J.C. Apparel, Inc., A.K.A. American Apparel, Sebastopol, MS: November 14, 2001.

TA-W-50,402; Tillotson Healthcare Corp., Dixville Notch, NH: November 21, 2001.

TA-W-50,290; Sipex Corp., Billerica, MA: November 6, 2001.

TA-W-50,278; Dennis Windings, Inc., Wilkes-Barre, PA: December 3, 2001.

TA-W-50,258 &A, B; Weyerhaeuser Co., Cascase Operations, Softwood Lumber Div., Enumclaw, WA, Snoqualmie, WA and Tacoma, WA: December 2, 2001.

TA-W-50,147; Sanmina-SCI Corp., Printed Circuit Board Div., Tech Center East, Ward Hill, MA: November 14, 2001.

TA-W-50,100; Smith Systems Manufacturing Co., Princeton, MN: November 12, 2001.

TA-W-50,480; Miller Bag Co., Minneapolis, MN: December 23, 2001.

TA-W-50,361; OEM Shades, Inc., Ford City, PA: December 13, 2001.

TA-W-50,298; SPX Corp., Valves and Controls Div., Sartell, MN: November 15, 2001.

TA-W-50,509; Sensient Colors, Inc., a subsidiary of Sensient Technologies Corp., Crompton Corp., Birdsboro, PA: December 20, 2001.

TA-W-50,385; Santini Corp., Leoma, TN: December 17, 2001.

TA-W-50,198; Vaagen Brother Lumber, Inc., Republic, WA: November 25, 2001.

TA-W-50,224; Upstate Printed Circuits, Inc., Syracuse, NY: November 30, 2001.

TA-W-50,084; Henry Pratt Co., Dixon, IL: November 7, 2001.

TA-W-50,084; Long Manufacturing, Thermal Products Div., a Div. of Dana Corp., Sheffield, PA: December 10, 2001.

TA-W-50,151; SIG Doyboy, In., a subsidiary of SIG Pack International, New Richmond, WI: November 20, 2001.

The following certifications have been issued. The requirements of (a)(2)(B) (shift in production) of Section 222 have been met.

TA-W-50,050; Advanced Energy Industries, Inc. (AE), Advanced Energy—Flow Products, (Aera Products—TX), Austin, TX: November 8, 2001.

TA-W-50,394; Micro Component Technology, Inc. (MCT), St. Paul, MN: December 18, 2001.

TA-W-50,359; General Chemical Group, Manistee, MI: December 13, 2001.

TA-W-50,159; Pliant Solutions, Ft. Edward, NY: November 13, 2001.

TA-W-50,324; Smith Aerospace, Inc., Display and Control Systems, Malvern Div., a Subsidiary of Smiths Group LLP, Malvern, PA: December 9, 2001.

TA-W-50,223; Alcoa Fujikura LTD, Photonics Div., Allentown, PA: December 2, 2001.

TA-W-50,244; Medtronics Corp., a Vascular World Medical Div., Sunrise, FL: November 27, 2001.

TA-W-50.546; Emerson Tool Co., Paris, TN: January 10, 2002,

TA-W-50,405; Dorr-Oliver Eimco USA, Inc., Salt Lake City, UT: December 20, 2001.

TA-W-50,190; Powder Processing and Technology, LLC, Valparaiso, IN: November 20, 2001.

TA-W-50,036; Nortel Networks, Department #2446, Research Triangle Park, NC: November 5, 2001.

TA-W-50,095; Johnson Controls, Inc., Controls Group, Kennesaw, GA: November 3, 2001.

TA-W-50,183; Donaldson Co., Inc., Port Huron, MI: November 19, 2001.

TA-W-50,296; TRW Automotive, Engine Components Div., Danville, PA: December 12, 2002

TA-W-50,318; Fairfield Manufacturing Co, Inc., Lafayette, IN: November 28, 2002.

TA-W-50356; Key Plastics LLC, Port Huron, MI: December 1, 2001.

The following certification have been issued. The requirement of upstream supplier to trade certified primary firm as been met.

TA-W-50,163; Seadrift Coke, L.P., a subsidiary of the Carbide/Graphite Group, Port Lavaca, TX: November 21, 2001.

TA-W-50,227; The Fabricating Source, Inc., Youngstown, OH: November 19, 2001

TA-W-50,182; TSCO/Tube Specialties Co., Inc., Troutdale, OR: November 20, 2001.

TA-W-50,135; Punch Components, Inc., Lima, OH: November 12, 2001.

TA-W-50,010; Vulcan Chemicals, Workers Producing R-22 and Chloroform, Wichita, KS: November 4, 2001.

The following certification has been issued. The requirement of downstream finisher to trade certified primary firm has been met.

TA-W-50,199; J. Dreier Enterprises, LTD, New Brighton, MN: November 19, 2001

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of January, 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-07635; Plastic Products Co., Inc., Moline, IL.

NAFTA-TAA-07574; Radio Frequency Systems, Conditioning Div., including leased workers at Strategic Staffing and Selectemp, Corvallis, OR

NAFTA-TAA-06227; ADC Telecommunications, 1000 Valley Park Drive, Shakopee, MN

NAFTA-TAA-07624; Pohlman Foundry Co., Inc., Buffalo, NY

NAFTA-TAA-06487; Disa Industries, Holly, MI

NAFTA-TAA-07577; Decatur Mold Tool and Engineering, Inc., Southeast Div., Sanford, NC

NAFTA-TAA-07641; Nutramax Oral Care, Florence, MA

NAFTA-TAA-07631; United Plastics Group, Bensenville, IL

NAFTA-TAA-07548; ADC Telecommunications, Inc., U.S. Photonics Engineering and Manufacturing, Vadnais Heights, MN

NAFTA-TAA-07602; Anderson Packaging, Inc., Rockford, IL

NAFTA-TAA-07630; Owen Development Corp., d/b/a Intra, Spartanburg, SC

Affirmative Determinations NAFTA-TAA

NAFTA-TAA-06499; Treesource Industries, Inc., d/b/a Spanaway Lumber, Tacoma, WA: August 21, 2001.

NAFTA-TAA-07615; Sermatech Manufacturing, Mal Tool Div., Manchester, CT: September 24, 2001.

NAFTA-TAA-06440; ADC Telecommunications, 1087 Park Place, Shakopee, MN: June 11, 2001.

NAFTA-TAA-06490; IBM Corp., Microelectronics Div., Essex Junction, VT: August 14, 2001.

NAFTA-TAA-07652; Pacific Electricord, a subsidiary of Leviton Manufacturing Co., Gardena, CA: October 4, 2001.

I hereby certify that the aforementioned determinations were issued during the months of January, 2003. Copies of these determinations are available for inspection in Room C-5311, U.S. Department of Labor, 200 Constitution Avenue, NW., Washington, DC 20210 during normal business hours or will be mailed to persons who write to the above address.

Dated: January 24, 2003.
Edward A. Tomchick,
Director, Division of Trade Adjustment Assistance.

[FR Doc. 03-2847 Filed 2-5-03; 8:45 am]

BILLING CODE 4510-30-P